DEPARTMENT OF COMMERCE

National Oceanic and Atmospheric Administration

50 CFR Part 600

[I.D. 032803B]

Magnuson-Stevens Act Provisions; General Provisions for Domestic Fisheries; Application for Exempted Fishing Permit (EFP)

AGENCY: Department of Commerce, National Oceanic and Atmospheric Administration (NOAA), National Marine Fisheries Service (NMFS).

ACTION: Notification of a proposal for EFPs to conduct experimental fishing; request for comments.

SUMMARY: The Administrator, Northeast Region, NMFS (Regional Administrator) has made a preliminary determination that the subject EFP application contains all the required information and warrants further consideration. The Regional Administrator has also made a preliminary determination that the activities authorized under the EFP would be consistent with the goals and objectives of the Northeast (NE) Multispecies Fishery Management Plan (FMP). However, further review and consultation may be necessary before a final determination is made to issue the EFP. Therefore, NMFS announces that the Regional Administrator proposes to issue an EFP that would allow three vessels to conduct fishing operations that are otherwise restricted by the regulations governing the fisheries of the Northeastern United States. The EFP would exempt three vessels from the minimum mesh size requirements for the Gulf of Maine (GOM) Regulated Mesh Area (RMA); regulations pertaining to the GOM Rolling Closure Areas III and V; days-at-sea (DAS) restrictions; and minimum fish size requirements. The experiment proposes to conduct a study to target cod and other groundfish species using modified bottom trawl gear to assess the effectiveness of square and hexagonal mesh escape windows, both with and without visual stimuli, in reducing the bycatch of non-target and undersized fish in the GOM groundfish fishery. The EFP would allow these exemptions for three commercial fishing vessels, for not more than 24 days of sea trials. All experimental work would be monitored at sea by observers trained to NMFS standards as part of this Cooperative Research Partners Initiative-funded project. Regulations under the Magnuson-Stevens Fishery Conservation and Management Act require publication of this notification to provide interested parties the opportunity to comment on applications for proposed EFPs.

DATES: Comments on this document must be received on or before April 24, 2003.

ADDRESSES: Written comments should be sent to Patricia A. Kurkul, Regional Administrator, NMFS, Northeast Regional Office, 1 Blackburn Drive, Gloucester, MA 01930. Mark the outside of the envelope “Comments on the Cooperative Research Partners Initiative Escape Window and Visual Stimuli Selectivity Study.” Comments may also be sent via facsimile (fax) to (978) 281-9135.

FOR FURTHER INFORMATION CONTACT: Douglas W. Christel, Fisheries Management Specialist, 978-281-9141.

SUPPLEMENTARY INFORMATION: A completed application for an EFP was submitted by Dr. Christopher Glass as part of a Cooperative Research Partners Initiative-funded project on January 28, 2003. The EFP would exempt three federally permitted commercial fishing vessels from the following NE multispecies provisions: The minimum mesh size requirements for the GOM RMA at 50 CFR 648.80(a)(3)(i); regulations pertaining to the GOM Rolling Closure Areas III and V at 50 CFR 648.81(g)(1)(iii) and (v), respectively; NE multispecies DAS restrictions at 50 CFR 648.82(a); and minimum fish size requirements specified at 50 CFR 648.83(a)(1).

The EFP would allow the commercial vessels to conduct the proposed study using modified bottom trawl gear. A total of four experimental codend configurations would be developed, including: (1) A codend made of 6.5-inch (16.51-cm) diamond mesh preceded by a 7-inch (17.78-cm) square mesh escape window in the extension; (2) a codend made of 6.5-inch (16.51-cm) diamond mesh preceded by a 7-inch (17.78-cm) hexagonal mesh escape window in the extension; (3) a codend made of 6.5-inch (16.51-cm) diamond mesh preceded by a 7-inch (17.78-cm) square mesh escape window in the extension, with additional visual stimulus by a black panel wrapped around the codend between the escape window and the codend; (4) a codend made of 6.5-inch (16.51-cm) diamond mesh preceded by a 7-inch (17.78-cm) hexagonal mesh escape window in the extension, with additional visual stimulus by a black panel wrapped around the codend between the escape window and the codend. Two conventional nets of 6.5-inch (16.51-cm) diamond mesh and 6.5-inch (16.51-cm) square mesh codends would be used to compare the effectiveness of the experimental extension configurations. For each of the four experimental codend configurations, a total of 30 valid tows would be conducted, while a total of 18 valid tows would be conducted for each of the two control codends, for a project total of approximately 156 tows of 20 minutes each in duration. Each of the three participating vessels would test all six of the codend configurations, concurrently, in different portions of the intended sampling area. Sampling would occur during two seasons (spring and fall), with operations taking place in May and October 2003, respectively.

A total of 24 DAS would be used during the course of this research. Each vessel would conduct 4-day fishing trips during each of the two seasons to carry out the sea trials. Vessels would target the following species: Atlantic cod, haddock, yellowtail flounder, winter flounder, summer flounder, and American plaice. The incidental catch is expected to be comprised mainly of skate, smooth and spiny dogfish, sculpin, sea raven, and sea robin.

The applicant requested that the research be conducted in the GOM in an area including 30-minute statistical squares 124, 125, 132, and 133; i.e., between 42°00' and 43°00' N. lat. and between 70°00' and 71°00' W. long. All fish retained by the experimental nets would be weighed and measured as quickly as possible. Undersized fish would be returned to the sea as quickly as possible after measurement, while legal-sized fish would be landed and sold to offset vessel costs.

The catches of each codend configuration would be compared and analyzed to assess the effectiveness of the escape windows, visual stimuli, and codend mesh shapes (diamond versus square mesh). Length frequency distributions and catch rates would be compared for each species by vessel, area, and experimental net configuration. Selectivity parameters would be developed for each species, including a determination of the 50-percent retention length, the selection factor, and the selection range for each species targeted in this study.

The participating vessels would be required to report all landings in their Vessel Trip Reports. The data collection activities aboard the participating vessel would be observers trained to NMFS standards to ensure compliance with the experimental fishery objectives. The EFP would also contain a provision that the Regional Administrator has the authority to reconsider the continuation of the experimental fishery on a month-to-month basis, based upon a monthly status report outlining total catch and bycatch submitted by the applicant, and would authorize the Regional Administrator to terminate the experimental fishery at any time, at her discretion.

Based on the results of the EFPs, this action may lead to future rulemaking.

Authority: 16 U.S.C. 1801 et seq.

Dated: April 3, 2003.
Richard W. Surdi,
Acting Director, Office of Sustainable Fisheries, National Marine Fisheries Service.

[FR Doc. 03-8685 Filed 4-8-03; 8:45 am]

BILLING CODE 3510-22-S